DEPARTMENT OF THE INTERIOR

Bureau of Land Management

[15X L1109AF LLUT980300 L11100000.PH0000 24-1A]

Utah Resource Advisory Council/Recreation Resource Advisory Council Meeting

AGENCY: Bureau of Land Management, Interior.

ACTION: Notice.

SUMMARY: In accordance with the Federal Land Policy and Management Act, the Federal Advisory Committee Act, and the Federal Lands Recreation Enhancement Act, the Bureau of Land Management's (BLM) Utah Resource Advisory Council (RAC)/Recreation Resource Advisory Council (RecRAC) will meet as indicated below.

DATES: The BLM-Utah RAC will meet September 9, 2015, from 8:00 a.m.-5:00 p.m., and the BLM-Utah RAC/RecRAC will meet September 10, 2015, from 8:00 a.m.-Noon.

ADDRESSES: The RAC/RecRAC will meet at the San Juan County Public Library, Monticello Branch, 80 North Main, Monticello, Utah.

FOR FURTHER INFORMATION CONTACT: Sherry Foot, Special Programs Coordinator, Bureau of Land Management, Utah State Office, 440 West 200 South, Suite 500, Salt Lake City, Utah 84101; phone (801)539-4195; or, sfoot@blm.gov.

SUPPLEMENTARY INFORMATION: On September 9, 2015, the RAC will take a field tour of Alkali Ridge, in Blanding, Utah. A 15-minute briefing will be held at the San Juan County Library, Monticello Branch, 80 North Main, Monticello, Utah, beginning at 8:00 a.m. Topics of discussion will be: Reviewing archaeological sites; discussions on the Tread Lightly! anti-looting campaign, the transportation system in relation to the Richfield decision on transportation management plans in Utah, and oil and gas leasing. After the field tour, the RAC will meet at the San Juan County Library for a business meeting. Further discussion on topics will include: Anti-looting, Richfield litigation, programmatic agreement for travel management planning, the Moab Master Leasing Plan, and updates on the Grand Staircase-Escalante National Monument Management Plan Amendment for Livestock Grazing. On September 10, the RAC/RecRAC will listen to fee presentations from the BLM and the Ashley National Forest. The BLM will present proposals to increase fees at Monticello Field Office Campgrounds and the Sand Flats Recreation Area. The Ashley National Forest will present a proposal to increase their Christmas tree permit fees.

A one-hour public comment period will take place September 10, from 9:30-10:30 a.m., where the public may address the RAC. Written comments may also be sent to the BLM at the address listed in the FOR FURTHER INFORMATION CONTACT section of this notice.

The meeting is open to the public; however, transportation, lodging, and meals are the responsibility of the participating individuals.

Persons who use a telecommunications device for the deaf (TDD) may call the Federal Information Relay Service (FIRS) at 1-800-877-8339 to leave a message or question for the above individual. The FIRS is available 24 hours a day, seven days a week. Replies are provided during normal business hours.

Authority: 43 CFR 1784.4-1.

Kent Hoffman,
Acting State Director.

[FR Doc. 2015-19564 Filed 8-7-15; 8:45 am]

BILLING CODE 4310-DQ-P